DEPARTMENT OF TRANSPORTATION

National Highway Traffic Safety Administration

49 CFR Part 571

[DOT Docket No. NHTSA-02-12845]

RIN 2127-AH71

Federal Motor Vehicle Safety Standards; Accelerator Control Systems; Correction

AGENCY: National Highway Traffic Safety Administration (NHTSA), DOT.

ACTION: Notice of proposed rulemaking (NPRM); correction.

SUMMARY: This document corrects the proposed regulatory text to a proposed rule published in the Federal Register of July 23, 2002 (67 FR 48117), regarding the Federal motor vehicle safety standard for accelerator control systems. This correction provides correct references in four places to provisions in the test procedures. The comments to the proposed rule were due by September 23, 2002. Because of the changes in this correction document, we extend the comment period to October 7, 2002.

DATES: You should submit your comments early enough to ensure that Docket Management receives them not later than October 7, 2002.

ADDRESSES: You should mention the docket number of this document in your comments and submit your comments in writing to: Docket Management, Room PL-401, 400 Seventh Street, SW., Washington, DC, 20590.

You may call the Docket at 202-366-9324. You may visit the Docket from 10 a.m. to 5 p.m., Monday through Friday.

FOR FURTHER INFORMATION CONTACT: For non-legal issues, you may call Mr. Michael Pyne, Office of Crash Avoidance Standards at (202) 366-4171. His FAX number is (202) 493-2739.

For legal issues, you may call Ms. Dorothy Nakama, Office of the Chief Counsel at (202) 366-2992. Her FAX number is (202) 366-3820.

You may send mail to both of these officials at National Highway Traffic Safety Administration, 400 Seventh St., SW., Washington, DC, 20590.

Correction

In the proposed rule document 02-18477, beginning on page 48129 in the issue of Tuesday, July 23, 2002, make the following corrections:

§ 571.124 [Corrected]

1. On page 48129, in the second column, in § 571.124, in paragraph S6.4.4, in the seventh line, correct “S6.4.8” to read “S6.4.6”.

2. On the same page, in the second column, in § 571.124, in paragraph S6.4.7, in the fourth line, correct “S6.4.6” to read “S6.4.5.1”.

3. On the same page, in the second column, in § 571.124, in paragraph S6.4.8, in the first line, correct “S6.4.9” to read “S6.4.7”.

4. On the same page, in the second column, in § 571.124, in paragraph S6.4.8, in the sixth line, correct “S6.4.7” to read “S6.4.5.2”.

Issued on: September 18, 2002.
Noble N. Bowie,
Acting Associate Administrator for Rulemaking.

[FR Doc. 02-24123 Filed 9-23-02; 8:45 am]

BILLING CODE 4910-15-P